DEPARTMENT OF THE INTERIOR

Bureau of Land Management

[AZ-P040-2017-1711-PH-1000-241A 17X.LLAZP04000.L1711.PH0000]

Notice of Availability of the Draft Resource Management Plan Amendment/Draft Environmental Impact Statement for Recreational Target Shooting in the Sonoran Desert National Monument, AZ

AGENCY: Bureau of Land Management, Interior.

ACTION: Notice

SUMMARY: In accordance with the National Environmental Policy Act of 1969, as amended, and the Federal Land Policy and Management Act of 1976, as amended, the Bureau of Land Management (BLM) Lower Sonoran Field Office, Phoenix, Arizona, has prepared a draft resource management plan (RMP) amendment/draft environmental impact statement (EIS) for the Sonoran Desert National Monument (SDNM). By this notice the BLM is announcing the opening of the public comment period.

DATES: To ensure that comments will be considered, the BLM must receive written comments on the draft RMP amendment/draft EIS within 90 days following the date the Environmental Protection Agency publishes its Notice of Availability in the Federal Register. The BLM will announce future meetings or hearings and any other public involvement activities at least 15 days in advance through public notices, media releases, and/or mailings.

ADDRESSES: You may submit comments related to the draft RMP amendment/draft EIS addressing Recreational Target Shooting in the SDNM by any of the following methods:

• Web site: http://1.usa.gov/1ZPyFSA.

• Email: blm_az_sdnmtargetshooting@blm.gov.

• Fax: 623-580-5580

• Mail: Wayne Monger, Project Manager, Lower Sonoran Field Office, 21605 North 7th Avenue, Phoenix AZ 85027

Copies of the draft RMP amendment/draft EIS addressing Recreational Target Shooting in the SDNM are available in the Lower Sonoran Field Office at the above address.

FOR FURTHER INFORMATION CONTACT: Dave Scarbrough, Monument Manager, telephone 623-580-5651 or, Wayne Monger, Project Manager, telephone 623-580-5683; address 21605 North 7th Avenue, Phoenix Arizona 85027; email blm_az_sdnmtargetshooting@blm.gov.

Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: The planning area covers nearly 496,400 surface acres of south-central Arizona and lies within Maricopa and Pinal Counties. Population centers adjacent to the planning area include metropolitan Phoenix, and the communities of Ajo, Goodyear, Buckeye, Gila Bend, Mobile, and Maricopa. The planning area encompasses Federal- and State-administered lands as well as private lands. The BLM manages 486,400 surface acres of public lands in the planning area, as well as 461,000 acres of (sub surface) mineral estate. The State of Arizona manages 3,900 surface acres in the planning area, and the remaining 6,100 surface acres are privately owned land.

The BLM has prepared the SDNM draft RMP amendment/draft EIS to address the management of recreational target shooting within the SDNM. The draft RMP amendment/draft EIS is needed to analyze recreational target shooting within the SDNM due to a ruling by the U.S. District Court-District of Arizona. The court vacated portions of the 2012 Record of Decision, approved RMP, and final EIS pertaining to the management of recreational target shooting throughout the SDNM and remanded the decision to the BLM for reconsideration. Pursuant to the court order, the BLM must complete the plan amendment by September 30, 2017. The formal public scoping process for the draft RMP amendment/draft EIS began on January 21, 2016, with the publication of a Notice of Intent in the Federal Register (81 FR 3463), and ended on March 21, 2016. The BLM held three public scoping meetings in February 2016. The BLM used public scoping comments to help identify planning issues that directed the formulation of alternatives and framed the scope of analysis in the draft RMP amendment/draft EIS. The BLM also used the scoping process to introduce the public to preliminary planning criteria, which set limits on the scope of the draft RMP amendment/draft EIS. Issues identified included, priority wildlife species and habitat, special status species, vegetation resources, lands with wilderness characteristics, designated wilderness, recreation, monument objects, hazardous materials, and public safety. The draft RMP amendment/draft EIS evaluates five alternatives in detail, including the No Action Alternative (Alternative A) and four action alternatives (Alternatives B, C, D and E). All alternatives provide for a hierarchy of mitigation that includes: 1) Avoiding impacts to the maximum extent compatible with the goals of the alternative; 2) Minimizing any impacts that are not avoided; and 3) Providing a range of responses commensurate to the level of unavoidable impacts. Alternative A, the No Action Alternative, provides that recreational target shooting on the SDNM will continue to be managed in accordance with the Lower Gila South RMP of 1988, which does not include management restrictions on recreational target shooting. Under Alternative B, an area temporarily restricted from recreational target shooting, by order of the U.S. District Court, District of Arizona (approximately 10,599 acres or 2.1 percent of the SDNM) would be permanently restricted from recreational target shooting. Alternative C would make recreational target shooting available in the Desert Back Country Recreational Management Zone (RMZ) only, resulting in approximately 54,817 acres, or 11 percent of the SDNM restricted from this activity. Under Alternative D, recreational target shooting would be available only outside of designated wilderness areas managed for wilderness characteristics and the Juan Bautista de Anza National Historic Trail (NHT) RMZ resulting in approximately 320,317 acres, or 66 percent of the SDNM restricted for this activity. Alternative E, would restrict recreational target shooting from occurring across the entire SDNM. Following the public comment period, comments will be used to prepare the proposed RMP amendment and final EIS. The BLM will respond to substantive comments by making appropriate revisions to the document, or by explaining why a comment did not warrant a change.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Raymond Suazo,
State Director.

[FR Doc. 2016-30166 Filed 12-14-16; 8:45 am]

BILLING CODE 4310-32-P